INTERNATIONAL TRADE COMMISSION

[Investigation Nos. 701-TA-534-537 and 731-TA-1274-1278 (Final)]

Certain Corrosion-Resistant Steel Products From China, India, Italy, Korea, and Taiwan; Determinations

On the basis of the record ¹ developed in the subject investigations, the United States International Trade Commission (“Commission”) determines, pursuant to the Tariff Act of 1930 (“the Act”), that an industry in the United States is materially injured by reason of imports of certain corrosion-resistant steel products from China, India, Italy, Korea, and Taiwan, provided for in subheadings 7210.30.00, 7210.41.00, 7210.49.00, 7210.61.00, 7210.69.00, 7210.70.60, 7210.90.10, 7210.90.60, 7210.90.90, 7212.20.00, 7212.30.10, 7212.30.30, 7212.30.50, 7212.40.10, 7212.40.50, 7212.50.00, 7212.60.00, 7215.90.10, 7215.90.30, 7215.90.50, 7217.20.15, 7217.30.15, 7217.90.10, 7217.90.50, 7225.91.00, 7225.92.00, 7226.99.01, 7228.60.60, 7228.60.80, and 7229.90.10 of the Harmonized Tariff Schedule of the United States, that have been found by the Department of Commerce (“Commerce”) to be sold in the United States at less than fair value (“LTFV”), and that have been found by Commerce to be subsidized by the governments of China, India, Italy, and Korea.²

¹ The record is defined in sec. 207.2(f) of the Commission's Rules of Practice and Procedure (19 CFR 207.2(f)).

² All six Commissioners voted in the affirmative. The Commission also finds that imports subject to Commerce's affirmative critical circumstances determinations are not likely to undermine seriously the remedial effect of the countervailing duty orders on certain corrosion-resistant steel products from China, Italy, and Korea and the antidumping duty orders on certain corrosion-resistant steel products from China, Italy, Korea, and Taiwan.

Background

The Commission, pursuant to sections 705(b) and 735(b) of the Act (19 U.S.C. 1671d(b) and 19 U.S.C. 1673d(b)), instituted these investigations effective June 3, 2015, following receipt of petitions filed with the Commission and Commerce by United States Steel Corp. (Pittsburgh, Pennsylvania), Nucor Corp. (Charlotte, North Carolina), Steel Dynamics Inc. (Fort Wayne, Indiana), California Steel Industries (Fontana, California), ArcelorMittal USA LLC (Chicago, Illinois), and AK Steel Corp. (West Chester, Ohio). The final phase of the investigations was scheduled by the Commission following notification of preliminary determinations by Commerce that imports of certain corrosion-resistant steel products from China, India, Italy, and Korea were subsidized within the meaning of section 703(b) of the Act (19 U.S.C. 1671b(b)) and imports of certain corrosion-resistant steel products from China, India, Italy, Korea, and Taiwan were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 12, 2016 (81 FR 7585), as revised on May 9, 2016 (81 FR 28104). The hearing was held in Washington, DC, on May 26, 2016, and all persons who requested the opportunity were permitted to appear in person or by counsel.

The Commission made these determinations pursuant to sections 705(b) and 735(b) of the Act (19 U.S.C. 1671d(b) and 19 U.S.C. 1673d(b)). It completed and filed its determinations in these investigations on July 15, 2016. The views of the Commission are contained in USITC Publication 4620 (July 2016), entitled Certain Corrosion-Resistant Steel Products from China, India, Italy, Korea, and Taiwan: Investigation Nos. 701-TA-534-537 and 731-TA-1274-1278 (Final).

By order of the Commission.
Dated: July 15, 2016.
Lisa R. Barton,
Secretary to the Commission.

[FR Doc. 2016-17131 Filed 7-19-16; 8:45 am]

BILLING CODE 7020-02-P